DEPARTMENT OF THE INTERIOR

Bureau of Land Management

[NM050-1150PG]

Intent To Prepare Resource Management Plan Amendment (RMPA), Socorro Field Office (SFO), Socorro, New Mexico

AGENCY: Bureau of Land Management (BLM), Interior.

SUMMARY: The BLM, SFO is proposing to amend the Resource Management Plan (RMP) to change oil and gas leasing stipulations on 229,500 acres within Socorro County. The areas proposed for stipulation changes include critical habitats for the state endangered desert bighorn sheep, designated Areas of Critical Environmental Concern (ACEC), and designated Special Management Areas (SMA).

DATES: Comments should be received on or before October 10, 2000.

ADDRESSES: Comments should be sent to the Socorro Field Manager, 198 Neel Avenue, Socorro, New Mexico, 87801.

FOR FURTHER INFORMATION CONTACT: David L. Heft, Wildlife Biologist, or Jon Hertz, Assistant Field Manager, at (505) 835-0412.

SUPPLEMENTARY INFORMATION: The Socorro RMP was completed in August 1989. The Ladron Mountain ACEC was identified at that time as a site for future reintroduction of the state endangered desert bighorn sheep. Desert bighorn sheep were reintroduced into the ACEC in 1992. The current population is approximately 35 individuals. The New Mexico Department of Game and Fish completed a habitat evaluation of potential reintroduction sites for desert bighorn in New Mexico in 1991 with an update in 1994. This evaluation also identified the Devil's Backbone area in the southern portion of the Magdalena Mountains in Socorro County as historic and suitable habitat for the reintroduction of desert bighorn sheep. This area is approximately 38 miles south of the reintroduction site in the Ladron Mountain ACEC. Bighorn sheep movements have been confirmed to within 8 miles of the Devil's Backbone area from the Ladron herd. The connecting corridor between the two primary habitat sites is composed of the Polvadera Mountains, Socorro Mountain, and Chupadera Mountains.

Requests for public comment on probable impacts to bighorn sheep and their habitat from oil and gas leasing activities were sent to approximately 260 public entities composed primarily of industry constituents. Responses were received from the state wildlife agency and interested members of the public identifying potential negative impacts to bighorn sheep and their habitat from these activities. The New Mexico Bureau of Mines commented that the potential for oil and gas resources in the proposed action area was very low. A comment pertaining to the cultural importance and concern for conservation of bighorn sheep was received from the Navajo Nation. No comments were received from the oil and gas industries.

Any comments of substance received during the 90-day comment period will be incorporated into the environmental analysis. The resultant analysis of oil and gas leasing and associated activities such as geophysical exploration has determined that these activities can have detrimental impacts to the habitat for desert bighorn sheep. The protection of these areas has become even more critical with the recent listing as federally endangered of small isolated populations of bighorn sheep on public lands in California. The New Mexico statewide population of free ranging desert bighorn sheep is estimated to only number 220 animals at this time.

The vulnerability of small fragmented populations of desert bighorn sheep was recently demonstrated by the listing as federally endangered of the peninsular population in southern California in March 1998 by the United States Fish and Wildlife Service. This population at the time of listing was estimated to number 280 individuals. In order to preclude the potential future listing of the New Mexico population as much as possible, the SFO is pro-actively managing identified habitat areas within its jurisdiction to provide maximum protection and enhancement of those habitats. The Ladron Mountain/Devil's Backbone complex has the potential to support a long term viable population of more than 100 individuals if habitat suitability is maintained. Protection and enhancement of this habitat can also assist in the potential state delisting of this species.

Dated: June 30, 2000.
Kate Padilla,
Field Manager.

[FR Doc. 00-17482 Filed 7-10-00; 8:45 am]

BILLING CODE 4310-MW-U